NUCLEAR REGULATORY COMMISSION

[NRC-2018-0001]

Sunshine Act Meeting Notice

DATE: Weeks of April 23, 30, May 7, 14, 21, 28, 2018.

PLACE: Commissioners' Conference Room, 11555 Rockville Pike, Rockville, Maryland.

STATUS: Public and Closed.

Week of April 23, 2018

Tuesday, April 24, 2018

9:00 a.m.

Briefing on Advanced Reactors (Public)

(Contact: Lucieann Vechioli: 301-415-6035)

This meeting will be webcast live at the Web address— http://www.nrc.gov/.

Thursday, April 26, 2018

9:00 a.m.

Strategic Programmatic Overview of the Fuel Facilities and the Nuclear Materials Users Business Lines (Public Meeting)

(Contact: Mahmoud Jardaneh: 301-415-4126 or Soly Soto Lugo: 301-415-7528)

This meeting will be webcast live at the Web address— http://www.nrc.gov/.

Week of April 30, 2018—Tentative

There are no meetings scheduled for the week of April 30, 2018.

Week of May 7, 2018—Tentative

Thursday, May 10, 2018

10:00 a.m.

Briefing on Security Issues (Closed Ex. 1)

2:00 p.m.

Briefing on Security Issues (Closed Ex. 1)

Week of May 14, 2018—Tentative

There are no meetings scheduled for the week of May 14, 2018.

Week of May 21, 2018—Tentative

There are no meetings scheduled for the week of May 21, 2018.

Week of May 28, 2018—Tentative

There are no meetings scheduled for the week of May 28, 2018.

* * * * *

The schedule for Commission meetings is subject to change on short notice. For more information or to verify the status of meetings, contact Denise McGovern at 301-415-0681 or via email at Denise.McGovern@nrc.gov.

* * * * *

The NRC Commission Meeting Schedule can be found on the internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., Braille, large print), please notify Kimberly Meyer-Chambers, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or you may email Patricia.Jimenez@nrc.gov or Wendy.Moore@nrc.gov.

Dated: April 20, 2018.
Denise L. McGovern,
Policy Coordinator, Office of the Secretary.

[FR Doc. 2018-08634 Filed 4-20-18; 11:15 am]

BILLING CODE 7590-01-P